DEPARTMENT OF AGRICULTURE

Grain Inspection, Packers and Stockyards Administration

[01-02-S]

Designation for the Circleville (OH), Farwell (TX), and Hoagland (IN) Areas

AGENCY: Grain Inspection, Packers and Stockyards Administration (GIPSA), USDA.

ACTION: Notice.

SUMMARY: GIPSA announces designation of the following organizations to provide official services under the United States Grain Standards Act, as amended (Act): Columbus Grain Inspection, Inc. (Columbus); Farwell Grain Inspection, Inc. (Farwell); and Northeast Indiana Grain Inspection, Inc. (Northeast Indiana)

EFFECTIVE DATES: February 1, 2002.

ADDRESSES: USDA, GIPSA, Janet M. Hart, Chief, Review Branch, Compliance Division, STOP 3604, Room 1647-S, 1400 Independence Avenue, S.W., Washington, DC 20250-3604.

FOR FURTHER INFORMATION CONTACT: Janet M. Hart at 202-720-8525, e-mail janhart@gipsadc.usda.gov.

SUPPLEMENTARY INFORMATION: This action has been reviewed and determined not to be a rule or regulation as defined in Executive Order 12866 and Departmental Regulation 1512-1; therefore, the Executive Order and Departmental Regulation do not apply to this action.

In the June 1, 2001, Federal Register (66 FR 29765), GIPSA asked persons interested in providing official services in the geographic areas assigned to the official agencies named above to submit an application for designation. Applications were due by June 30, 2001.

Columbus, Farwell, and Northeast Indiana were the sole applicants for designation to provide official services in the entire area currently assigned to them, so GIPSA did not ask for additional comments on them.

GIPSA evaluated all available information regarding the designation criteria in section 7(f)(l)(A) of the Act and, according to section 7(f)(l)(B), determined that Columbus, Farwell, and Northeast Indiana are able to provide official services in the geographic areas specified in the June 1, 2001, Federal Register, for which they applied. Subsequently, Columbus applied for additional territory in Ohio, and was granted designation for the area specified in the October 1, 2001, Federal Register (66 FR 49915.) Interested persons may obtain official services by calling the telephone numbers listed below.

Official agency | Headquarters location and telephone | Designation start-end
Farwell | Farwell, TX 806-481-9052 | 2/01/2002-12/31/2004
| Additional Service Location: Casa Grande, AZ
Columbus | Circleville, OH 740-474-3519 | 2/01/2002-12/31/2004
| Additional Service Location: Bucyrus, OH
Northeast Indiana | Hoagland, IN 219-639-6390 | 2/01/2002-12/31/2004

Authority: Pub. L. 94-582, 90 Stat. 2867, as amended (7 U.S.C. 71 et seq.).

Dated: November 21, 2001.
David R. Shipman,
Acting Administrator, Grain Inspection, Packers and Stockyards Administration.

[FR Doc. 01-30004 Filed 12-3-01; 8:45 am]

BILLING CODE 3410-EN-P